DEPARTMENT OF HEALTH AND HUMAN SERVICES

National Institutes of Health

Office of the Secretary Amended; Notice of Meeting

Notice is hereby given of a change in the meeting of the Task Force on Research Specific to Pregnant Women and Lactating Women scheduled for August 21-22, 2017, in Conference Room 6, C-Wing, 31, which was published in the Federal Register on April 18, 2017, 82 FR 18305. The agenda for the meetings are listed below:

August 21, 2017—Day 1

8:30 a.m. Welcome and Opening Remarks

8:40 a.m. Introductions

9:15 a.m. Background, Timeline, Goals and Reports

9:45 a.m. Scope of the Task Force

11:15 a.m. Identification of Federal Activities

5:00 p.m. End of Day 1

August 22, 2017—Day 2

8:30 a.m. Recap of Day 1, Outline and Goals of Day 2

8:45 a.m. Panel Discussion: Recommendations for coordination of and collaboration on research related to pregnant women and lactating women

10:45 a.m. Open Public Presentations

12:30 p.m. Panel Presentations and Discussion: Dissemination of research findings and information relevant to pregnant women and lactating women to providers and the public

3:00 p.m. Outline Overarching Recommendations from Panels

4:15 p.m. Recap of Meeting, Action Items, Charge to Group

4:30 p.m. End of Day 2, Adjourn Meeting

In addition to filing written comments, oral comments from the public will be scheduled for approximately 10:45 a.m.-11:30 a.m. on August 22, 2017. Any member of the public interested in presenting oral comments to the committee on August 22, 2017, must notify the Contact Person by 5:00 p.m. on Monday, August 7, 2017. Interested individuals and representatives of organizations must submit a letter of intent, a brief description of the organization represented, and a short description of the oral presentation. Only one representative of an organization may be allowed to present oral comments and if accepted by the committee, presentations may be limited to three to five minutes per speaker depending on the number of speakers to be accommodated within the allotted time. Speakers will be assigned a time to speak in the order of the date and time when their request to speak is received. Both printed and electronic copies are requested for the record.

Any changes to the meeting agenda, including tentative times, as well as other relevant additional information about the meeting will be posted on the Web site for the Task Force on Research Specific to Pregnant Women and Lactating Women (PRGLAC) located at: https://www.nichd.nih.gov/about/advisory/PRGLAC/Pages/index.aspx.

Dated: July 7, 2017.
Anna Snouffer,
Deputy Director, Office of Federal Advisory Committee Policy.

[FR Doc. 2017-14643 Filed 7-12-17; 8:45 am]

BILLING CODE 4140-01-P